ENVIRONMENTAL PROTECTION AGENCY

40 CFR Part 300

[FRL-7012-7]

National Oil and Hazardous Substance Pollution Contingency Plan; National Priorities List

AGENCY: Environmental Protection Agency.

ACTION: Notice of intent to delete the Western Pacific Railroad Superfund Site from the National Priorities List.

SUMMARY: The Environmental Protection Agency (EPA) Region 9 announces its intent to delete the Western Pacific Railroad Superfund Site (Site) located in Oroville, California, from the National Priorities List (NPL) and requests public comments on this proposed action. The NPL, promulgated pursuant to Section 105 of the Comprehensive Environmental Response, Compensation, and Liability Act (CERCLA) of 1980, as amended, is found at Appendix B of 40 CFR part 300 of the National Oil and Hazardous Substances Pollution Contingency Plan (NCP). The EPA and the State of California, through the California EPA Department of Toxic Substances Control (DTSC), have determined that all appropriate response actions under CERCLA, other than maintenance and five-year reviews, have been completed. Because the Site poses no significant threat to human health or the environment, further remedial measures pursuant to CERCLA are not appropriate.

DATES: Comments concerning the proposed deletion of this Site from the NPL must be submitted on or before August 17, 2001.

ADDRESSES: Written comments should be mailed to: Holly Hadlock, Remedial Project Manager, U.S. EPA, Region 9, SFD-3, 75 Hawthorne Street, San Francisco, CA 94105.

INFORMATION REPOSITORIES: Comprehensive information on this site is available through the Region 9 public docket which is available for viewing at the EPA Region 9 Superfund Records Center, 95 Hawthorne Street, Suite 403S, San Francisco, CA 94105, (415) 536-2000, Monday through Friday 8:00 a.m. to 4:30 p.m. The Deletion Docket is also available for viewing at the Butte County Library, 1820 Mitchell Street, Oroville, CA, 95966, (530) 538-7642, Tuesday and Wednesday 10:00 a.m. to 8:00 p.m., Thursday 2:00 to 6:00 p.m., Friday 10:00 a.m. to 5:00 p.m., and Saturday 12:00 to 4:00 p.m.

FOR FURTHER INFORMATION CONTACT: Holly Hadlock, Remedial Project Manager, U.S. EPA, Region 9, SFD-7-1, 75 Hawthorne Street, San Francisco, CA 94105, (415) 744-2244; or Jacqueline Lane, Community Involvement Coordinator, U.S. EPA, Region 9, SFD-3, 75 Hawthorne Street, San Francisco, CA 94105, (415) 744-2267 or (800) 231-3075.

SUPPLEMENTARY INFORMATION:

Table of Contents

I. Introduction

II. NPL Deletion Criteria

III. Deletion Procedures

IV. Basis of Intended Site Deletion

I. Introduction

The U.S. Environmental Protection Agency (EPA) Region 9 announces its intent to delete the Western Pacific Site in Oroville, Butte County, California, from the National Priorities List (NPL) and requests public comment on this proposed action. The NPL constitutes Appendix B of 40 CFR part 300 which is the Oil and Hazardous Substances Pollution Contingency Plan (NCP), which EPA promulgated pursuant to section 105 of the Comprehensive Environmental Response, Compensation and Liability Act (CERCLA) of 1980, as amended. EPA identifies sites that appear to present a significant risk to public health, welfare, or the environment, and maintains the NPL as the list of these sites. As described in 40 CFR 300.425(e)(3) of the NCP, sites deleted from the NPL remain eligible for remedial action in the unlikely event that conditions at the site warrant such action.

EPA will accept comments on the proposal to delete this site for thirty (30) days after publication of this document in the Federal Register.

Section II of this notice explains the criteria for deleting sites from the NPL. Section III discusses the procedures that EPA is using for this action. Section IV discusses the Western Pacific Railroad Site and explains how the Site meets the deletion criteria.

II. NPL Deletion Criteria

Section 300.425(e) of the NCP provides that sites may be deleted from the NPL where no further response is appropriate. In making a determination to delete a site from the NPL, EPA in consultation with the state, shall consider whether any of the following criteria have been met:

(i) Responsible parties or other parties have implemented all appropriate response actions required; or

(ii) All appropriate Fund-financed responses under CERCLA have been implemented, and no further action by responsible parties is appropriate; or

(iii) The remedial investigation has shown that the release of hazardous substances poses no significant threat to public health or the environment and, therefore, remedial measures are not appropriate.

Even if a site is deleted from the NPL, where hazardous substances, pollutants, or contaminants remain at the site above levels that allow for unlimited use and restricted exposure, EPA is required, by statute, to conduct a subsequent review of the site at least every five years after the initiation of the remedial action at the site to ensure that the site remains protective of public health and the environment. If new information becomes available which indicates a need for further action, EPA may initiate additional remedial actions. Whenever there is a significant release from a deleted site from the NPL, the site may be restored to the NPL without application of the Hazard Ranking System.

III. Deletion Procedures

The following procedures were used for the intended deletion of this site: (1) EPA Region 9 issued a Record of Decision (ROD) on September 30, 1997, that selected the remedial action activities; (2) All appropriate response actions under CERCLA have been implemented as documented in the Final Close Out Report dated June 26, 2001; (3) DTSC has concurred with the proposed deletion; (4) a notice has been published in the local newspapers and has been distributed to appropriate federal, state, and local officials and other interested parties announcing the commencement of a 30-day public comment period on EPA's Notice of Intent to Delete; and (5) all relevant documents have been made available in the local Site information repository.

Deletion of the Site from the NPL does not itself create, alter, or revoke any individual's rights or obligations. The NPL is designed primarily for informational purposes and to assist Agency management. As mentioned in Section II of this notice, Sec. 300.425(e)(3) of the NCP states that the deletion of a site from the NPL does not preclude eligibility for future response actions.

For deletion of this site, EPA's Regional Office will accept and evaluate public comments before making a final decision to delete. If comments are received, the Agency will prepare a Responsiveness Summary to address those comments. The Responsiveness Summary will be available for review in the Deletion Docket.

A deletion occurs when the Regional Administrator places a final notice in the Federal Register. Generally, the NPL will reflect deletions in the final update following the notice. Public notices and copies of the Responsiveness Summary will be made available to local residents by the Regional Office.

IV. Basis of Intended Site Deletion

The following site summary provides the Agency's rationale for the proposal to delete this site from the NPL.

Site Background and History

The Western Pacific Railroad Site occupies approximately 90 acres at the southern end of the City of Oroville in Butte County, California. The Western Pacific Railroad Company operated a fueling and maintenance yard at the Site from the 1880's until 1970. Activities at the Site included locomotive fueling, routine maintenance, and railcar repair such as welding, painting, fabricating, and machining of railcars.

In 1989 the State of California's Regional Water Quality Control Board issued an Order requiring the current owner, Union Pacific Railroad (UPRR), to investigate an on-site waste pond and the Site groundwater. In 1989 the waste pond was excavated and backfilled with clean fill and a leaking underground storage tank in the Fueling Area was removed. This leaking tank was the source of a plume of groundwater contaminated with volatile organic chemicals (VOCs). EPA placed the Site on the NPL in 1990 due to concerns about groundwater that was contaminated with VOCs and the potential for these chemicals to reach a nearby public drinking water well. In 1991 UPRR dismantled the remaining fueling and maintenance structures on the Site. Currently UPRR uses the rail line on the property to run trains.

Response Actions

EPA made the decision in 1993 to initiate a time-critical removal to contain the VOC plume and prevent it from reaching the nearby downgradient public drinking water well. In August 1993, EPA issued an Action Memorandum with a streamlined risk evaluation selecting groundwater extraction and treatment to contain the contaminants of concern in the groundwater at the Site. That same month EPA and UPRR signed an Administrative Order on Consent, an agreement in which UPRR agreed to perform the groundwater cleanup required by EPA.

In 1994 UPRR installed a groundwater treatment system to pump and treat the VOC-contaminated groundwater. By July 1997 the level of VOCs dropped below the cleanup levels and in November 1999 the groundwater treatment system was turned off. Post-remedial groundwater sampling confirmed that the VOCs were below state and federal drinking water standards.

After the groundwater cleanup was started, UPRR, under a second Administrative Order on Consent, conducted a Remedial Investigation (RI) for the Site soils. The Remedial Investigation and Risk Assessment Report concluded that polycyclic aromatic hydrocarbons (PAHs) and arsenic were present in elevated levels in the top one foot of soil in one acre of the railyard. Because of the Site history and UPRR's future plans for the Site, the risk assessment evaluated the risks for industrial use only, not residential use. The risk assessment concluded that contamination in the Site soil presented an elevated risk to on-site workers and trespassers through dermal contact with soil contaminated with PAHs and arsenic.

The Feasibility Study (FS) evaluated remedial action alternatives for the contaminated soils in the area identified in the RI and Risk Assessment. The FS then provided a detailed analysis of alternatives: (1) Institutional controls only; (2) limited Fueling Area (1 acre) excavation and off-site disposal with institutional controls; and (3) entire Fueling Area (10 acres) excavation and off-site disposal with institutional controls.

Cleanup Standards

On September 30, 1997, EPA issued a Record of Decision (ROD) which selected the following remedy:

• Limited excavation and off-site disposal of approximately 1 acre of PAH-contaminated soil,

• Institutional control(s) that will limit the future use of the property to industrial use only; and

• Extraction and treatment of contaminated groundwater.

The ROD specified that the residual mean concentration for PAHs, converted and presented as benzo(a) pyrene equivalents (B(a)P), must be reduced to 0.41 mg/kg or less. The ROD also concluded that due to the collocation of PAHs and arsenic in soils, by excavating surface soils with PAHs above cleanup levels, all soils contaminated with arsenic at levels of potential concern would also be addressed.

The selected remedy called for the cleanup of the one acre at the Site with the highest levels of contamination. The contamination levels in the other nine acres in the Fueling Area were below action levels for industrial workers and trespassers. The groundwater cleanup, which had been initiated using EPA's removal authority, was incorporated into the ROD, with state and federal Maximum Contaminant Levels (MCLs) as the cleanup standards.

In 1998 UPRR excavated approximately 1,720 tons of contaminated soil, placed it in railcars, and shipped it for disposal to the ECDC Environmental landfill near Price, Utah. Post-excavation confirmation sampling was conducted twice at the site, in July and in December 1998. This sampling confirmed that the residual mean concentration level for PAHs as expressed as B(a)P equivalents was reduced to 0.41 mg/kg or less. The cumulative cancer risk from PAHs and arsenic in the Fueling Area soil was reduced to an excess cancer risk level of approximately 1 × 10−⁵ (one in one hundred thousand) for on-site workers, which is the level established in the ROD. Final groundwater sampling was conducted in July 2000, with all contaminants remaining below state and federal MCLs. On March 1, 2001, UPRR filed the Covenant to Restrict Use of Property for the Site with Butte County. This covenant prohibits the property's use for:

(a) A residence;

(b) A hospital for humans;

(c) A public or private school for persons under 21 years of age;

(d) A day care center; and

(e) Any other purpose involving residential occupancy on a 24-hour basis.

Operation and Maintenance

UPRR continues to own the property and run trains on its rail lines. Pursuant to the Administrative Order issued by EPA on June 17, 1998, site operation and maintenance to be performed by UPRR includes maintenance of the perimeter fence, informing EPA of any plans to remove contaminated soils during future construction activities, and informing EPA and DTSC of any transfer of property ownership.

Five-Year Review

CERCLA requires a five-year review of all sites with hazardous substances remaining above the health-based levels for unrestricted use of the Site. Since the cleanup of the Western Pacific Railroad Site utilized a restrictive covenant to limit the Site use, five-year reviews will be required at the Site to ensure that the remedy selected for the Site remains protective of human health and the environment. EPA plans to complete the first Five-Year Review prior to September 30, 2002.

Community Involvement

Community relations activities included the publication and distribution of several fact sheets, including the proposed cleanup plan, to local residents. EPA held a public meeting in July 1997 to discuss with the community the previously implemented removal action and the proposed remedial action. EPA received and addressed public comments in the Responsiveness Summary portion of the ROD dated September 30, 1997. A local information repository was established at the Butte County Library in Oroville.

Applicable Deletion Criteria/State Concurrence

All the completion requirements for this site have been met as described in the Final Close Out Report (FCOR) dated June 26, 2001. One of the three criteria for site deletion specifies that EPA may delete a site from the NPL if “responsible parties or other parties have implemented all appropriate response actions required.” EPA, with the concurrence of the State of California through its Department of Toxic Substances Control in a letter dated June 21, 2001, believes that this criterion for deletion has been met. Consequently, EPA is proposing deletion of this site from the NPL. Documents supporting this action are available in the Deletion Docket.

Dated: July 6, 2001.
Jane Diamond,
Acting Regional Administrator, Region 9.

[FR Doc. 01-17832 Filed 7-17-01; 8:45 am]

BILLING CODE 6560-50-P